DEPARTMENT OF STATE

[Public Notice 3227]

Bureau of Political-Military Affairs; Suspension of Munitions Export Licenses and Other Approvals Destined for Kazakhstani and Czech Companies and Related Matters

AGENCY: Department of State.

ACTION: Notice.

SUMMARY: Notice is hereby given that, pursuant to Section 38 of the Arms Export Control Act (22 U.S.C. 2778) and section 126.7 of the International Traffic in Arms Regulations, all licenses and other approvals for defense articles and defense services involving certain Kazakhstani and Czech entities and individuals, identified below, are suspended, effective immediately. Notice is also given that it is the policy of the United States to deny licenses, other approvals, exports and temporary imports of defense articles and defense services destined for these entities and individuals. Notice is further given that the Department of State has asked the Department of Treasury to take all necessary steps to prohibit the import of all defense articles enumerated in the U.S. Munitions list from these entities or individuals and that importers are asked to inform the Bureau of Alcohol, Tobacco and Firearms, Department of Treasury if they have currently valid import permits for imports of defense articles from any of these entities or individuals.

EFFECTIVE DATE: February 16, 2000.

FOR FURTHER INFORMATION CONTACT: On general issues and on Office of Defense Trade Control Issues: Rose Biancaniello, Deputy Director, Department of State, Office of Defense Trade Controls, Department of State, phone: 703-812-2568; fax: 703-875-6647. On import ban issues: Larry White, Chief, Firearms and Explosive Imports Division, Bureau of Alcohol, Tobacco and Firearms, Department of Treasury, phone: 202-927-8320; fax: 202-927-2697.

SUPPLEMENTARY INFORMATION: Section 126.7 of the International Traffic in Arms Regulations (ITAR) provides that any application for an export license or other approval under the ITAR may be disapproved, and any license or other approval or exemption granted under the ITAR may be revoked, suspended or amended without prior notice under various circumstances, including whenever such action is deemed to be in furtherance of world peace, the national security or the foreign policy of the United States or is otherwise advisable.

Pursuant to section 126.7(a)(1) of the ITAR, it is deemed that suspending the following foreign entities and individuals from participating in any activities subject to Section 38 of the Arms Export Control Act would be in furtherance of the national security and foreign policy of the United States. Therefore, until further notice, the Department of State is hereby suspending all licenses and other approvals for: (a) exports and other transfers of defense articles and defense services from the United States; (b) transfers of U.S.-origin defense articles and defense services from foreign destinations; and (c) temporary imports of defense articles to or from the following entities and individuals:

(1) Uralsk Plant Metallist (including at 1 Urdinskaya Street, City of Uralsk, Republic of Kazakhstan 417024);

(2) Agroplast, a.s. (including at E. Benese Square 13, Liberec, Czech Republic);

(3) Petr Pernicka (including at 26/2 Soukenne Square, Liberec, Czech Republic);

(4) Zbynek Svejnoha (including at 603/4 Vodnyanska, Liberec 14, Czech Republic);

(5) Alexander Petrenko (Kazakhstani citizen, presently resident in the Republic of Kazakhstan).

Furthermore, it is the policy of the United States to deny licenses and other approvals for exports and temporary imports of defense articles and defense services destined for these entities and individuals.

Finally, pursuant to section 38 of the Arms Export Control Act and Executive Order 11958 of January 18, 1977, as amended, the Department of State has asked the Department of Treasury, Bureau of Alcohol, Tobacco and Firearms to take all necessary steps to prohibit the import of all defense articles enumerated in the U.S. Munitions list from these entities or individuals. Any U.S. importers that have currently valid import permits for imports from any of these entities or individuals importers are asked to, within 20 calendar days of this notice, so inform in writing: Mr. Larry White, Chief, Firearms and Explosive Imports Division, Bureau of Alcohol, Tobacco and Firearms, Fifth Floor, 650 Massachusetts Ave., NW, Washington, DC 20226, Fax: (202) 927-2697.

Dated: February 9, 2000.
Robert M. Beecroft,
Acting Assistant Secretary of State for Political-Military Affairs.

[FR Doc. 00-3684 Filed 2-15-00; 8:45 am]

BILLING CODE 4710-25-P